DEPARTMENT OF AGRICULTURE

Food Safety and Inspection Service

[Docket No. FSIS-2018-0025]

National Advisory Committee on Microbiological Criteria for Foods

AGENCY: Food Safety and Inspection Service, USDA.

ACTION: Notice of public meeting.

SUMMARY: This notice is announcing that the National Advisory Committee on Microbiological Criteria for Foods (NACMCF) will hold public meetings of the full Committee and Subcommittees on August 7-10, 2018. The Committee will discuss and adopt: (1) Effective Salmonella Control Strategies for Poultry and (2) Virulence Factors and Attributes that Define Foodborne Shiga Toxin-producing Escherichia coli (STEC) as Severe Human Pathogens. The Committee will also discuss two new charges; the first charge is The Use of Water in Animal Slaughter and Processing. Regulatory agencies such as FSIS must also be able to provide supportable alternatives to current water consumption practices that allow industry to potentially use less and recycle water through developing criteria on the appropriate uses of varying water sources and treatment technologies in the processing of meat, poultry, and egg products. The second charge is Appropriate Product Testing Procedures and Criteria to Verify Process Control for Microbial Pathogens or appropriate indicator organisms in Ready-to-Eat (RTE) Foods under the U.S. Food and Drug Administration's (FDA) jurisdiction.

DATES: The full Committee will hold an open meeting on Tuesday, August 7, 2018 from 10:00 a.m. to 12:00 p.m. EST. The Subcommittees on the Use of Water in Animal Slaughter and Processing, and Appropriate Product Testing Procedures and Criteria to Verify Process Control for Microbial Pathogens or appropriate indicator organisms in Ready-to-Eat (RTE) Foods under FDA's jurisdiction, will hold concurrent open Subcommittee meetings on Tuesday, August 7, from 1:00 p.m. to 5:00 p.m., Wednesday, August 8, 2018; Thursday, August 9, 2018; and Friday, August 10, 2018 from 8:30 a.m. to 5:00 p.m. EST., respectively.

ADDRESSES: The Committee meetings will be held at the Patriot's Plaza 3, 1st Floor Auditorium and Conference Rooms, 355 E Street SW, Washington, DC 20250. Attendance is free. Attendees must show a valid photo ID to enter the building. Attendees with non-government ID may be required to pass through the security screening systems, please allow adequate time for this process.

FSIS invites interested persons to submit comments on the FSIS-2018-0025. Comments may be submitted by one of the following methods:

• Federal eRulemaking Portal: This website provides the ability to type short comments directly into the comment field on this web page or attach a file for lengthier comments. Go to http://www.regulations.gov. Follow the on-line instructions at that site for submitting comments.

• Mail, including CD-ROMs, etc.: Send to Docket Clerk, U.S. Department of Agriculture, Food Safety and Inspection Service, 1400 Independence Avenue SW, Mailstop 3758, Room 6065, Washington, DC 20250-3700.

• Hand- or courier-delivered submittals: Deliver to 1400 Independence Avenue SW, Room 6065, Washington, DC 20250-3700.

Instructions: All items submitted by mail or electronic mail must include the Agency name and docket number FSIS-2018-0025. Comments received in response to this docket will be made available for public inspection and posted without change, including any personal information, to http://www.regulations.gov.

Docket: For access to background documents or comments received, call (202) 720-5627 to schedule a time to visit the FSIS Docket Room at 1400 Independence Avenue SW, Room 6065, Washington, DC 20250-3700. All documents related to the full Committee meeting will be available for public inspection in the FSIS Docket Room The NACMCF documents will also be available on the internet at https://www.fsis.usda.gov/wps/portal/fsis/topics/regulations/federal-register/federal-register-notices.

FSIS will finalize an agenda on or before the meeting dates and post it on the FSIS web page at https://www.fsis.usda.gov/wps/portal/fsis/newsroom/meetings. Please note that the meeting agenda is subject to change due to the time required for Committee discussions; thus, sessions could start or end earlier or later than anticipated. Please plan accordingly if you would like to attend a particular session or participate in a public comment period.

The official transcript of the August 7, 2018 full Committee meeting, when it becomes available, will be kept in the FSIS Docket Room at the above address and will also be posted on https://www.fsis.usda.gov/wps/portal/fsis/topics/data-collection-and-reports/nacmcf/meetings/nacmcf-meetings.

FOR FURTHER INFORMATION CONTACT: Persons interested in making a presentation, submitting technical papers, or providing comments at the August 7, plenary session should contact Karen Thomas: Phone: (202) 690-6620; Fax (202) 690-6334; Email: Karen.thomas-sharp@fsis.usda.gov or at the mailing address: USDA, FSIS, Office of Public Health Science, 1400 Independence Avenue SW, Patriots Plaza 3, Mailstop 3777, Room 9-47, Washington, DC 20250. Persons requiring a sign language interpreter or other special accommodations should notify Ms. Thomas by July 30, 2018.

SUPPLEMENTARY INFORMATION:

Background

The NACMCF was established in 1988, in response to a recommendation of the National Academy of Sciences for an interagency approach to microbiological criteria for foods, and in response to a recommendation of the U.S. House of Representatives Committee on Appropriations, as expressed in the Rural Development, Agriculture, and Related Agencies Appropriation Bill for fiscal year 1988. The charter for the NACMCF is available for viewing on the FSIS web page at https://www.fsis.usda.gov/wps/portal/fsis/topics/data-collection-and-reports/nacmcf/committee-charter.

The NACMCF provides scientific advice and recommendations to the Secretary of Agriculture and the Secretary of Health and Human Services on public health issues relative to the safety and wholesomeness of the U.S. food supply, including development of microbiological criteria and review and evaluation of epidemiological and risk assessment data and methodologies for assessing microbiological hazards in foods. The Committee also provides scientific advice and recommendations to the Centers for Disease Control and Prevention and the Departments of Commerce and Defense. Questions from the Department of Agriculture and Health and Human Services agencies that are sponsors of the Committee are submitted as Charges to the Executive Committee for vetting and approval before they are presented to the full Committee during the plenary session. The Committee is expected to respond to the questions during their two-year term.

Ms. Carmen Rottenberg, Acting Deputy Under Secretary for Food Safety, USDA, is the Committee Chair; Dr. Susan T. Mayne, Director of the Food and Drug Administration's Center for Food Safety and Applied Nutrition, is the Vice-Chair; and Dr. Mark Carter, FSIS, is the Designated Federal Officer.

Documents Reviewed by NACMCF

FSIS will make all materials reviewed and considered by NACMCF regarding its deliberations available to the public. Generally, these materials will be made available as soon as possible after the full Committee meeting. Further, FSIS intends to make these materials available in electronic format on the FSIS web page (www.fsis.usda.gov), as well as in hard copy format in the FSIS Docket Room.

Disclaimer: NACMCF documents and comments posted on the FSIS website are electronic conversions from a variety of source formats. In some cases, document conversion may result in character translation or formatting errors. The original document is the official, legal copy.

To meet the electronic and information technology accessibility standards in Section 508 of the Rehabilitation Act, NACMCF may add alternate text descriptors for non-text elements (graphs, charts, tables, multimedia, etc.). These modifications only affect the internet copies of the documents.

Copyrighted documents will not be posted on the FSIS website, but will be available for inspection in the FSIS Docket Room.

Additional Public Notification

Public awareness of all segments of rulemaking and policy development is important. Consequently, FSIS will announce this Federal Register publication online through the FSIS web page located at: http://www.fsis.usda.gov/federal-register. FSIS also will make copies of this publication available through the FSIS Constituent Update, which is used to provide information regarding FSIS policies, procedures, regulations, Federal Register notices, FSIS public meetings, and other types of information that could affect or would be of interest to our constituents and stakeholders. The Constituent Update is available on the FSIS web page. Through the web page, FSIS is able to provide information to a much broader, more diverse audience. In addition, FSIS offers an email subscription service which provides automatic and customized access to selected food safety news and information. This service is available at: http://www.fsis.usda.gov/subscribe. Options range from recalls to export information, regulations, directives, and notices. Customers can add or delete subscriptions themselves, and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination, any person in the United States under any program or activity conducted by the USDA.

How To File a Complaint of Discrimination

To file a complaint of discrimination, complete the USDA Program Discrimination Complaint Form, which may be accessed online at: http://www.ocio.usda.gov/sites/default/files/docs/2012/Complain_combined_6_8_12.pdf, or write a letter signed by you or your authorized representative.

Send your completed complaint form or letter to USDA by mail, fax, or email:

Mail: U.S. Department of Agriculture, Director, Office of Adjudication, 1400 Independence Avenue SW, Washington, DC 20250-9410.

Fax: (202) 690-7442.

Email: program.intake@usda.gov.

Persons with disabilities who require alternative means for communication (Braille, large print, audiotape, etc.), should contact USDA's TARGET Center at (202) 720-2600 (voice and TDD).

Paul Kiecker,
Acting Administrator.

[FR Doc. 2018-15594 Filed 7-19-18; 8:45 am]

BILLING CODE 3410-DM-P